ENVIRONMENTAL PROTECTION AGENCY

[EPA-HQ-OAR-2007-1121; FRL-9509-4]

Agency Information Collection Activities; Submission to OMB for Review and Approval; Fuel Quality Regulations for Diesel Fuel Sold in 2001 & Later Years; for Tax-Exempt (Dyed) Highway Diesel Fuel; & Non-Road Locomotive & Marine Diesel Fuel (Renewal)

AGENCY: Environmental Protection Agency (EPA).

ACTION: Notice.

SUMMARY: In compliance with the Paperwork Reduction Act (PRA) (44 U.S.C. 3501 et seq.), this notice announces that an Information Collection Request (ICR) has been forwarded to the Office of Management and Budget (OMB) for review and approval. This is a request to renew an existing approved collection. The ICR, which is abstracted below, describes the nature of the information collection and its estimated burden and cost.

DATES: Additional comments may be submitted on or before January 23, 2012.

ADDRESSES: Submit comments referencing Docket ID No. EPA-HQ-OAR-2007-1121, to (1) EPA online using http://www.regulations.gov (our preferred method), by email to a-and-r-Docket@epa.gov, or by mail to: EPA Docket Center, Environmental Protection Agency, Air Docket, Mail Code 6102T, 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Geanetta Heard, Environmental Protection Specialist, Mail Code: 6406J, Environmental Protection Agency, 1200 Pennsylvania Ave. NW., Washington, DC 20460; telephone number: (202) 343-9017 fax number: (202) 343-2801; email address: heard.geanetta@epa.gov.

SUPPLEMENTARY INFORMATION: EPA has submitted the following ICR to OMB for review and approval according to the procedures prescribed in 5 CFR 1320.12. On August 18, 2011 (76 FR 51362), EPA sought comments on this ICR pursuant to 5 CFR 1320.8(d). EPA received no comments. Any additional comments on this ICR should be submitted to EPA and OMB within 30 days of this notice.

EPA has established a public docket for this ICR under Docket ID No. EPA-HQ-OAR-2007-1121, which is available for online viewing at www.regulations.gov, or in person viewing at the Air and Radiation Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is (202) 566-1744, and the telephone number for the Air Docket is (202) 566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information for which public disclosure is restricted by statute. For further information about the electronic docket, go to www.regulations.gov.

Title: Fuel Quality Regulations for Diesel Fuel Sold in 2001 & Later Years; for Tax-Exempt (Dyed) Highway Diesel Fuel; & Non-Road Locomotive & Marine Diesel Fuel (Renewal).

ICR numbers: EPA ICR No. 1718.09, OMB Control No. 2060-0308.

ICR Status: This ICR is currently scheduled to expire on December 31, 2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This ICR covers recordkeeping and reporting requirements for motor vehicle diesel fuel and non-road, locomotive and marine diesel fuel. It also includes recordkeeping and reporting associated with the placement of codes on dyed diesel fuel (the dye is required under IRS regulations). The main purpose for recordkeeping and reporting is to ensure compliance with the regulations at 40 CFR Part 80, Subpart I—“Motor Vehicle, Non-Road, Locomotive, and Marine Diesel Fuel.” Most reporting is mandatory. Parties may assert a claim of business confidentiality and submissions covered by such a claim will be treated in accordance with procedures at 40 CFR part 2 and established Agency procedures.

Burden Statement: The annual public reporting and recordkeeping burden for this collection of information is estimated to average .07 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Private businesses selling diesel fuel.

Estimated Number of Respondents: 6,806.

Frequency of Response: Annual, quarterly and/or on occasion..

Estimated Total Annual Hour Burden: 18,950.

Estimated Total Annual Cost: $2,084,500.

Changes in the Estimates: There is a decrease of hours in the total estimated burden currently identified in the OMB Inventory of Approved ICR Burdens. For this renewal, we estimate a total annual burden of 18,950 hours. This represents a decrease of 266,311 hours. For the expiring approval, we had estimated 285,261 hours. Most motor vehicle diesel reporting has now ended, which was expected to reduce the responses, hours, and costs. Likewise, laboratory qualifications have virtually all been submitted already. However, please note that we have changed how we accounted for the burden for this renewal. We have modeled our estimates to match the in-use forms in order to assist interested parties in providing comments. Therefore, some of the change is associated with how we did the estimates in 2008 (expiring approval) and now.

Dated: December 16, 2011.
John Moses,
Director, Collection Strategies Division.

[FR Doc. 2011-32960 Filed 12-22-11; 8:45 am]

BILLING CODE 6560-50-P